ENVIRONMENTAL PROTECTION AGENCY

[ER-FRL-9042-2]

Environmental Impact Statements; Notice of Availability

Responsible Agency: Office of Federal Activities, General Information 202-564-5632 or https://www.epa.gov/nepa/.

Weekly receipt of Environmental Impact Statements

Filed 10/29/2018 Through 11/02/2018

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20180257, Draft, BIA, BLM, OK, OKT Draft Joint EIS/BLM RMP and BIA Integrated RMP, Comment Period Ends: 02/07/2019, Contact: Patrick Rich 405-875-3330

EIS No. 20180264, Final Supplement, USN, WA, Land-Water Interface and Service Pier Extension at Naval Base Kitsap Bangor, Washington, Review Period Ends: 12/10/2018, Contact: Kimberly Kler 360-315-5103

EIS No. 20180265, Final, DOE, LA, ADOPTION—Calcasieu Pass Project, Contact: Brian Lavoie 202-586-2459

The Department of Energy (DOE) has adopted the Federal Energy Regulatory Commission's Final EIS No. 20180258, filed 10/22/2018 with the EPA. DOE was a cooperating agency on this project. Therefore, recirculation of the document is not necessary under Section 1506.3(c) of the CEQ regulations.

EIS No. 20180266, Draft, BIA, WI, Ho-Chunk Nation, Fee-to-Trust and Casino Project, Comment Period Ends: 12/24/2018, Contact: Timothy J. Guyah 612-725-4512

Amended Notices

EIS No. 20180205, Revised Draft, USFWS, WA, Revised Draft Environmental Impact Statement for a Long-term Conservation Strategy for the Marbled Murrelet, Comment Period Ends: 12/06/2018, Contact: Mark Ostwald 360-753-9564

Revision to FR Notice Published 09/07/2018; Extending the Comment Period from 11/06/2018 to 12/06/2018.

Dated: November 5, 2018.
Robert Tomiak,
Director, Office of Federal Activities.

[FR Doc. 2018-24456 Filed 11-8-18; 8:45 am]

BILLING CODE 6560-50-P